DEPARTMENT OF TRANSPORTATION

Office of the Secretary

Aviation Proceedings, Agreements Filed the Week Ending August 22, 2003

The following Agreements were filed with the Department of Transportation under the provisions of 49 U.S.C. sections 412 and 414. Answers may be filed within 21 days after the filing of the application.

Docket Number: OST-2003-16011.

Date Filed: August 22, 2003.

Parties: Members of the International Air Transport Association.

Subject:

CTC COMP 0453 dated 22 August 2003

Resolution 010aa-TC2/12/23 Special Cargo

Amending Resolution,

Establishing Cargo Rates and Charges from Albania, Bosnia, and Herzegovina, Bulgaria, Croatia, Macedonia (FYROM), Romania Serbia and Montenegro, Slovenia in euro (EUR)

Intended effective dates: 1 October 2003, 1 November 2003, 1 January 2004.

Andrea M. Jenkins,
Program Manager, Docket Operations, Federal Register Liaison.

[FR Doc. 03-22563 Filed 9-4-03; 8:45 am]

BILLING CODE 4910-62-P